DEPARTMENT OF JUSTICE

Notice of Proposed Settlement Agreement Under the Clean Air Act

On December 22, 2025, the Department of Justice lodged a proposed Amended Consent Decree in the civil action United States v. Anchor Glass Container Corp., Inc., Civ. No. 3:18-cv-00943-BJD-JBT (M.D. Fla.). The complaint alleged that the defendant violated the Clean Air Act, and on September 18, 2018, the Court entered the original Consent Decree. The proposed Amended Consent Decree: (1) removes the requirement for a scrubber at the Georgia plant and instead requires taking two Florida furnaces out of service and adding other controls at the Georgia facility; (2) changes the control technology for the New York plant by switching to ceramic selective catalytic reduction; (3) swaps the controls on two furnaces at the Minnesota plant, and allows Anchor to opt to use SCR technology there; and (4) includes other minor changes.

The publication of this notice opens a period for public comment on the Settlement Agreement. Comments should be addressed to the Assistant Attorney General, Environment and Natural Resources Division, and should refer to Amended Consent Decree for Anchor Glass Container Corp, D.J. Ref. No. 90-5-2-1-10406. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed in whole or in part on the public court docket without notice to the commenter.

During the public comment period, the Amended Consent Decree may be examined at and downloaded from this Justice Department website: https://www.justice.gov/enrd/consent-decrees. If you require assistance accessing the Consent Decree you may request assistance by email or by mail to the addresses provided above for submitting comments.

Scott Bauer,
Assistant Section Chief, Environmental Enforcement Section, Environment and Natural Resources Division.

[FR Doc. 2025-24100 Filed 12-30-25; 8:45 am]

BILLING CODE 4410-15-P